DEPARTMENT OF AGRICULTURE

Forest Service

Boundary Establishment for North Fork of the Middle Fork of the Willamette National Wild and Scenic River, Willamette National Forest, Lane County, OR

AGENCY: Forest Service. USDA.

ACTION: Notice of availability.

SUMMARY: The USDA Forest Service, Washington Office, is transmitting the final boundary of the North Fork of the Middle Fork of the Willamette National Wild and Scenic River to Congress.

FOR FURTHER INFORMATION CONTACT: Randy Dunbar, Willamette National Forest, 211 East 6th Avenue, Eugene, Oregon 97440, phone 541-465-6541.

SUPPLEMENTARY INFORMATION: The North Fork of the Middle Fork of the Willamette Wild and Scenic River boundary is available for review at the following offices: USDA Forest Service, Recreation, Yates Building, 14th and Independence Avenues SW., Washington, DC 20024; Pacific Northwest Regional Office, 333 SW. First Avenue, Portland, Oregon 97204; and, Willamette National Forest, 211 East 6th Avenue, Eugene, Oregon 97440.

The Omnibus Oregon Wild and Service Rivers Act (Public Law 100-557) of October 28, 1998, designated the North Fork of the Middle Fork of the Willamette River, Oregon, as a National Wild and Scenic River, to be administered by the Secretary of Agriculture. The final decision on delineation of a river corridor boundary is based on the North Fork of the Middle Fork of the Willamette Wild and Scenic River Decision Notice and Environmental Assessment dated January 9, 1992. Unless changed by Congress, the boundary decision will be implemented ninety days after Congress receives the transmittal.

Dated: November 28, 2000.
Nancy Graybeal,
Deputy Regional Forester.

[FR Doc. 00-30754 Filed 12-1-00; 8:45 am]

BILLING CODE 3410-11-M